DEPARTMENT OF HEALTH AND HUMAN SERVICES

Administration for Children and Families

Submission for OMB Review; Comment Request

Title: Annual Survey of Refugees (ASR).

OMB No.: 0970-0033.

Description: The Refugee Act of 1980, and the Refugee Assistance amendments enacted in 1982 and 1986, stress the achievement of employment and self-sufficiency by refugees as soon as possible after their arrival in the U.S. The Annual Survey of Refugees collects information on the economic circumstances of a random sample of refugees, Amerasians, and entrants who arrived in the U.S. during the previous five years focusing on their education, training, labor force participation, and welfare utilization rates. From their responses, ORR reports on the economic adjustment of refugees to the American economy. These data are used by Congress in its annual deliberations of refugee admissions and funding and by program managers in formulating policies for the future direction of the Refugee Resettlement Program.

Respondents: Approximately 2,000 refugees.

Annual Burden Estimates
Instrument | Number of respondents | Number of responses per respondents | Average burden hours per response | Total burden hours
ASR Telephone Survey | 2,000 | 1 | 40 minutes | 1,350
Estimated Total Annual Burden Hours: |  |  |  | 1,350

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: October 11, 2000.
Bob Sargis,
Reports Clearance Officer.

[FR Doc. 00-26657 Filed 10-16-00; 8:45 am]

BILLING CODE 4184-01-M